FARM CREDIT ADMINISTRATION

Sunshine Act Meetings

AGENCY: Farm Credit Administration Board, Farm Credit Administration.

ACTION: Notice, regular meeting.

SUMMARY: Notice is hereby given, pursuant to the Government in the Sunshine Act, of the forthcoming regular meeting of the Farm Credit Administration Board.

DATES: The regular meeting of the Board will be held March 11, 2021, from 9:00 a.m. until such time as the Board may conclude its business. Note: Because of the COVID-19 pandemic, we will conduct the board meeting virtually. If you would like to observe the open portion of the virtual meeting, see instructions below for board meeting visitors.

ADDRESSES: To observe the virtual meeting, go to FCA.gov, select “Newsroom,” then “Events.” There you will find a description of the meeting and a link to “Instructions for board meeting visitors.” See SUPPLEMENTARY INFORMATION for further information about attendance requests.

FOR FURTHER INFORMATION CONTACT: Dale Aultman, Secretary to the Farm Credit Administration Board (703) 883-4009. TTY is (703) 883-4056.

SUPPLEMENTARY INFORMATION: This meeting of the Board will be open to the public. If you wish to observe, follow the instructions above in the Addresses section at least 24 hours before the meeting. If you need assistance for accessibility reasons or if you have any questions, contact Dale Aultman, Secretary to the Farm Credit Administration Board, at (703) 883-4009. The matters to be considered at the meeting are as follows:

Open Session

Approval of Minutes

• February 11, 2021

Report

• Funding Conditions for the Farm Credit System

New Business

• Repeal of certain FCA Regulations made obsolete by Section 5412 of the Agriculture Improvement Act of 2018

• Farm Credit East ACA's request to increase its capital contribution to FarmStart, LLP

• Spring 2021 Unified Agenda

Dated: March 1, 2021.
Dale Aultman,
Secretary, Farm Credit Administration Board.

[FR Doc. 2021-04459 Filed 3-1-21; 11:15 am]

BILLING CODE 6705-01-P